ENVIRONMENTAL PROTECTION AGENCY

[EPA-HQ-OPP-2007-0400; FRL-8142-9]

4-Aminopyridine Risk Assessments; Notice of Availability; Extension of Comment Period

AGENCY: Environmental Protection Agency (EPA).

ACTION: Notice; extension of comment period.

SUMMARY: EPA issued a notice in the Federal Register of May 30, 2007 (72 FR 29995) (FRL-8132-2), concerning the availability of EPA's ecological risk assessments, and related documents for the pesticide 4-aminopyridine. This document is extending the comment period for 4-aminopyridine for 23 days. The new comment period ends August 22, 2007.

DATES: Comments must be received on or before August 22, 2007.

ADDRESSES: Follow the detailed instructions as provided under ADDRESSES in the Federal Register of May 30, 2007.

FOR FURTHER INFORMATION CONTACT: Katie Hall, Special Review and Reregistration Division (7508P), Office of Pesticide Programs, Environmental Protection Agency, 1200 Pennsylvania Ave., NW., Washington, DC 20460-0001; telephone number: (703) 308-0166; fax number: (703) 308-8090; e-mail address: hall.katie@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Access Electronic Copies of this Document?

In addition to accessing an electronic copy of this Federal Register document through the electronic docket at http://www.regulations.gov, you may access this Federal Register document electronically through the EPA Internet under the “Federal Register” listings at http://www.epa.gov/fedrgstr.

II. What Action is EPA taking?

This document extends the public comment period established in the Federal Register of May 30, 2007. In that document, EPA announced the availability of ecological risk assessments and opened a 60-day public comment period. EPA is hereby extending the comment period, which was set to end on July 30, 2007.

III. What is the Agency's Authority for Taking this Action?

Section 4(g)(2) of the Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period, if additional time for comment is requested. In this case, the Humane Society of the United States and the Animal Protection Institute have requested additional time to develop comments. The Agency believes that an additional 23 days is warranted.

List of Subjects

Environmental protection, Fumigants, Pesticides and pests.

Dated: July 18, 2007.
Peter Caulkins,
Acting Director, Special Review and Reregistration Division, Office of Pesticide Programs.

[FR Doc. E7-14367 Filed 7-24-07; 8:45 am]

BILLING CODE 6560-50-S